DEPARTMENT OF THE INTERIOR

Bureau of Land Management

[AK-040-07-1610-DQ-087L]

Notice of Availability of the Bay Proposed Resource Management Plan and Final Environmental Impact Statement

AGENCY: Bureau of Land Management, Interior.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a proposed Resource Management Plan/Final Environmental Impact Statement (RMP/EIS) for the Bay planning area, located in southwest Alaska.

DATES: BLM Planning Regulations (43 CFR 1610.5-2) state that any person who participated in the planning process, and has an interest that is or may be adversely affected, may protest the BLM's approval or amendment of an RMP. That person must file a protest within 30 days of the date the Environmental Protection Agency publishes its Notice of Availability in the Federal Register. Instructions for filing protests are described in the Dear Reader letter of the Bay Proposed RMP/Final EIS and in the “Additional Protest Information” section of this notice. Please consult BLM's Planning Regulations at 43 CFR 1610.5-2 for further instructions on protests.

FOR FURTHER INFORMATION CONTACT: Chuck Denton, BLM Anchorage Field Office, 6881 Abbott Loop Road, Anchorage, AK 99507, (907) 267-1246 or (800) 478-1263.

SUPPLEMENTARY INFORMATION: The Bay planning area includes 1,927,083 acres of BLM-administered public lands and resources in the Bristol Bay and Goodnews Bay areas of southwest Alaska. The Bay Proposed RMP/Final EIS focuses on the principles of multiple use and sustained yield as prescribed by Section 202 of FLPMA. The Proposed RMP/Final EIS considers and analyzes four alternatives, including a No Action and a Preferred Alternative. The alternatives provide for an array of variable levels of commodity production and resource protection.

The alternatives were developed based on public scoping and participation, as required by the BLM's Land Use Planning Handbook (H-1601-1). The public involvement and collaboration process included nine public scoping meetings, six public meetings on the Draft RMP/EIS, and meetings with other interested parties. The BLM consulted with Alaska Native tribes; federal, state, and local government agencies; elected community officials; and the BLM's Alaska Resource Advisory Council. Involvement with the State of Alaska throughout the planning process was achieved through a joint BLM/State position, which provided a liaison between the State and the BLM.

Primary issues addressed through this planning process include: (1) Natural resources protection, primarily water and fisheries resources, due to the proposed lifting of land withdrawals and possible locatable mining exploration and development on BLM- and State of Alaska-managed lands; (2) social and economic conditions, including subsistence resources; and (3) ACEC (Area of Critical Environmental Concern) determination.

In addition to these issues, the Bay Proposed RMP/Final EIS addresses management of various program areas such as vegetation, fish and wildlife habitat, fire management, cultural resources, visual resources, forest resources, and realty. The Proposed RMP/Final EIS also resulted in development of required operating procedures (ROPs), which are requirements, procedures, management practices, or design features the BLM adopts as operational requirements for permitted activities. The ROPs were developed to ensure that Alaska Statewide Land Health Standards are met.

As required by 43 CFR 1610.7-2, areas with potential for designation as ACECs were considered during the Bay planning process. The preferred alternative recommends the designation of one ACEC, known as the Carter Spit ACEC. Final acreage for the proposed 36,220-acre Carter Spit ACEC will depend on the result of land conveyance to the State of Alaska and Native corporations. This ACEC is proposed to provide additional protections for Steller's eiders (Polysticta stelleri), a federally-listed migratory bird species, and coastal salt-marsh habitat in the Goodnews Bay area. Use limitations within the boundary of the ACEC include:

• Limited OHV (off-highway vehicle) designation.

• Avoidance Area for rights-of-ways.

• Open to fluid mineral leasing subject to special stipulations.

• Open to locatable mineral entry subject to required operating procedures.

• Closed to salable mineral activities.

All comments received on the plan were analyzed and evaluated. Substantive comments and the BLM's responses to those comments can be found in the appendices of the Proposed RMP/Final EIS. Comments on the Draft RMP/EIS received from the public and BLM review comments were incorporated into the Proposed RMP/Final EIS. Public comments resulted in changes to the preferred alternative through the addition of clarifying text and additional analysis of impacts, and contributed to the adjustment of the boundary of the proposed Carter Spit ACEC. A summary of these changes follows the Executive Summary of the Proposed RMP/Final EIS.

Copies of the Bay Proposed RMP/Final EIS have been sent to affected federal, state, and local government agencies and to interested parties. The document is available for public inspection at the BLM Anchorage Field Office, 6881 Abbott Loop Road, Anchorage, AK, during normal business hours from 7:30 a.m. to 4 p.m., Monday through Friday, except holidays. Interested persons may also view the document on the Internet at http://www.blm.gov/ak, or at one of the following locations in Alaska: BLM Alaska State Office (Anchorage), Alaska Resources Library and Information Services (University of Alaska Anchorage), Z.J. Loussac Library (Anchorage), Dillingham Public Library, Naknek Public Library, Homer Public Library, City of Goodnews Bay, City of New Stuyahok, City of Quinhagak, and Lake and Peninsula Borough Planning Department (King Salmon).

Additional Protest Information: E-mailed and faxed protests will not be accepted as valid protests unless the protesting party also provides a copy of the original letter postmarked by the close of the protest period. Under these conditions, the BLM will consider the e-mailed or faxed protest as an advance copy and it will receive full consideration. Please direct faxed protests to the attention of the BLM protest coordinator at (202) 452-5112, and e-mails to Brenda_Hudgens-Williams@blm.gov. All protests, including the follow up letter (if faxing or e-mailing), must be in writing and mailed to one of the following addresses:

Regular Mail: Director (210), Attn: Brenda Williams, P.O. Box 66538, Washington, DC 20035.

Overnight Mail: Director (210), Attn: Brenda Williams, 1620 L Street NW., Suite 1075, Washington, DC 20036.

Before including your address, phone number, e-mail address, or other personal identifying information in your protest, you should be aware that your entire protest—including your personal identifying information—may be made publicly available at any time. While you can ask us to withhold your personal identifying information from public review, we cannot guarantee that we will be able to do so.

Dated: June 7, 2007.
Gust C. Panos,
Associate State Director.

Editorial Note: This document was received at the Office of the Federal Register on Monday, December 3, 2007.

[FR Doc. E7-23719 Filed 12-6-07; 8:45 am]

BILLING CODE 4310-JA-P